COMMODITY FUTURES TRADING COMMISSION

Membership of the Commission's Performance Review Board

AGENCY: Commodity Futures Trading Commission.

ACTION: Membership Change of Performance Review Board.

SUMMARY: In accordance with the Office of Personnel Management guidance under the Civil Service Reform Act of 1978, notice is given that the following employees will serve as members of the Commission's Performance Review Board.

Members: Donald L. Tendick, Acting Executive Director, Chairman; Andrew Lowenthal, Chief of Staff; Phyllis Cela, Acting Director, Division of Enforcement; John Lawton, Acting Director, Division of Trading and Markets; C. Robert Paul, General Counsel; Richard Shilts, Acting Director, Division of Economic Analysis; Andrea Corcoran, Director, Office of International Affairs; David Merrill, Deputy General Counsel and Madge Bolinger, Acting Deputy Executive Director.

DATES: This Action will be effective on August 10, 2000.

ADDRESSES: Commodity Futures Trading Commission, Office of Human Resources, Three Lafayette Centre, Suite 4100, Washington, DC 20581.

FOR FURTHER INFORMATION CONTACT: Marsha Scialdo, Director, Office of Human Resources, Commodity Futures Trading Commission, Three Lafayette Centre, Suite 4100, Washington, DC 20581, (202) 418-5010.

SUPPLEMENTARY INFORMATION: This action which changes the membership of the Board supersedes the previously published Federal Register Notice, August 10, 1999.

Dated: Issued in Washington, DC on August 4, 2000.
Catherine D. Dixon,
Assistant Secretary of the Commission.

[FR Doc. 00-20209 Filed 8-9-00; 8:45 am]

BILLING CODE 6351-01-M